DEPARTMENT OF THE TREASURY

Internal Revenue Service

26 CFR Part 1

Returns of Information of Brokers and Barter Exchanges; Furnishing Statement Required With Respect to Certain Substitute Payments

CFR Correction

In Title 26 of the Code of Federal Regulations, Part 1 (§ 1.151 to end of part 1), revised as of April 1, 2013, on page 258, § 1.6045-1T is removed, and on page 263, § 1.6045-2T is removed.

[FR Doc. 2014-08935 Filed 4-16-14; 8:45 am]

BILLING CODE 1505-01-D